DEPARTMENT OF HEALTH AND HUMAN SERVICES

Centers for Medicare & Medicaid Services

[Document Identifier: CMS-855(S) and CMS-855(A,B,I,R); and CMS-10427]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection;

Title of Information Collection: Medicare Enrollment Application—Durable Medical Equipment, Prosthetics, Orthotics and Supplies (DMEPOS) Suppliers Use: The primary function of the CMS 855S Durable Medical Equipment, Prosthetics, Orthotics and Supplies (DMEPOS) supplier enrollment application is to gather information from a supplier that tells us who it is, whether it meets certain qualifications to be a health care supplier, where it renders its services or supplies, the identity of the owners of the enrolling entity, and information necessary to establish the correct claims payment. The goal of evaluating and revising the CMS 855S DMEPOS supplier enrollment application is to simplify and clarify the information collection without jeopardizing our need to collect specific information. The majority of the revisions contained in this submission are non-substantive in nature such as spelling and formatting corrections; however, we also removed duplicate fields and obsolete questions and provided clarification and simplified the instructions for the completing the application. Form Number: CMS-855(S) (OCN: 0938-1056); Frequency: Yearly; Affected Public: Private Sector; Business or other for-profit and not-for-profit institutions; Number of Respondents: 43,350; Total Annual Responses: 43,350; Total Annual Hours: 113,550 (For policy questions regarding this contact Kim McPhillips at 410-786-5374. For all other issues call 410-786-1326.)

2. Type of Information Collection Request: Extension of a currently approved collection; Title of Information Collection: Medicare Enrollment Application Use: The primary function of the CMS-855 Medicare enrollment application is to gather information from a provider or supplier that tells us who it is, whether it meets certain qualifications to be a health care provider or supplier, where it practices or renders its services, the identity of the owners of the enrolling entity, and other information necessary to establish correct claims payments. Form Number: CMS-855(A, B, I, R) (OCN: 0938-0685); Frequency: Yearly; Affected Public: Private Sector; Business or other for-profit and not-for-profit institutions; Number of Respondents: 440,450; Total Annual Responses: 440,450; Total Annual Hours: 856,395 (For policy questions regarding this contact Kim McPhillips at 410-786-5374. For all other issues call 410-786-1326.)

3. Type of Information Collection Request: New collection; Title of Information Collection: For-Profit PACE Study; Use: The Program of All Inclusive Care of the Elderly (PACE) aims to provide integrated care and services to the frail elderly at risk of institutionalization to enable them to remain in the community. Under the Balanced Budget Act of 1997 (BBA), the not-for-profit PACE plans were established as permanent providers under the Medicare and Medicaid programs. The BBA also mandated a demonstration of for-profit PACE plans. This study will estimate the differences in quality and access to care between the for-profit and not-for-profit PACE plans. The data collected in the survey will be used to measure the outcomes of interest-differences in access to and quality of care delivered to PACE enrollees. To measure these key outcomes, the survey will collect data on access to and satisfaction with healthcare, personal care, and transportation assistance provided by the plans. Form Number: CMS-10427 (OCN: 0938-New); Frequency: Yearly; Affected Public: Individuals. Number of Respondents: 813. Number of Responses: 813. Total Annual Hours: 447. (For policy questions regarding this collection contact Julia Zucco at 410-786-6670. For all other issues call 410-786-1326.)

To obtain copies of the supporting statement and any related forms for the proposed paperwork collections referenced above, access CMS' Web site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by June 4, 2012:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number ___, Room C4-26-05, 7500 Security Boulevard, Baltimore, Maryland 21244-1850.

Dated: March 28, 2012.
Martique Jones,
Director, Regulations Development Group, Division B Office of Strategic Operations and Regulatory Affairs.

[FR Doc. 2012-8009 Filed 4-3-12; 8:45 am]

BILLING CODE 4120-01-P